INTERNATIONAL TRADE COMMISSION

[Investigation No. 731-TA-1057 (Preliminary)]

Certain Processed Hazelnuts From Turkey

Determination

On the basis of the record ¹ developed in the subject investigation, the United States International Trade Commission (Commission) determines, pursuant to section 733(a) of the Tariff Act of 1930 (19 U.S.C. 1673(a)) (the Act), that there is a reasonable indication that an industry in the United States is materially injured by reason of imports from Turkey of certain processed hazelnuts, provided for in subheadings 0802.22.00 and 2008.19.20 of the Harmonized Tariff Schedule of the United States, that are alleged to be sold in the United States at less than fair value (LTFV).

¹ The record is defined in § 207.2(f) of the Commission's rules of practice and procedure (19 CFR 207.2(f)).

Commencement of Final Phase Investigation

Pursuant to § 207.18 of the Commission's rules, the Commission also gives notice of the commencement of the final phase of its investigation. The Commission will issue a final phase notice of scheduling, which will be published in the Federal Register as provided in § 207.21 of the Commission's rules, upon notice from the Department of Commerce (Commerce) of an affirmative preliminary determination in the investigation under section 733(b) of the Act, or, if the preliminary determination is negative, upon notice of an affirmative final determination in that investigation under section 735(a) of the Act. Parties that filed entries of appearance in the preliminary phase of the investigation need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigation.

Background

On October 21, 2003, a petition was filed with the Commission and Commerce on behalf of Westnut LLC, Dundee, OR; Northwest Hazelnut Co., Hubbard, OR; Hazelnut Growers of Oregon, Cornelius, OR; Willamette Filbert Growers, Newberg, OR; Evergreen Orchards, McMinnville, OR; and Evonuk Orchards, Eugene, OR, alleging that an industry in the United States is materially injured and threatened with material injury by reason of LTFV imports of certain processed hazelnuts from Turkey. Accordingly, effective October 21, 2003, the Commission instituted antidumping duty investigation No. 731-TA-1057 (Preliminary).

Notice of the institution of the Commission's investigation and of a public conference to be held in connection therewith was given by posting copies of the notice in the Office of the Secretary, U.S. International Trade Commission, Washington, DC, and by publishing the notice in the Federal Register of October 28, 2003 (68 FR 61465). The conference was held in Washington, DC, on November 12, 2003, and all persons who requested the opportunity were permitted to appear in person or by counsel.

The Commission transmitted its determination in this investigation to the Secretary of Commerce on December 12, 2003. The views of the Commission are contained in USITC Publication 3656 (December 2003), entitled Certain Processed Hazelnuts from Turkey: Investigation No. 731-TA-1057 (Preliminary).

By order of the Commission.
Issued: December 15, 2003.
Marilyn R. Abbott,
Secretary to the Commission.

[FR Doc. 03-31253 Filed 12-18-03; 8:45 am]

BILLING CODE 7020-02-M